COMMITTEE FOR PURCHASE FROM PEOPLE WHO ARE BLIND OR SEVERELY DISABLED

Procurement List Proposed Addition; Correction

In the document appearing on page 19136, FR Doc 01-9234, in the issue of April 13, 2001, in the second column the Committee published a proposed addition to the Procurement List for Data Entry, Department of Justice, Immigration & Naturalization Service, Washington, DC. The proposed addition notice is amended to read Data Entry for the Non-Immigrant Information System (NIIS) and Student/School (STSC) System, Department of Justice, Immigration & Naturalization Service, Washington, DC

Rita L. Wells,
Deputy Executive Director.

[FR Doc. 01-10533 Filed 4-26-01; 8:45 am]

BILLING CODE 6353-01-P